DEPARTMENT OF DEFENSE

Office of the Secretary

[Transmittal No. 24-0Z]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-0Z.

Dated: January 9, 2026.
Stephanie J. Bost,
Alternate OSD Federal Register Liaison Officer, Department of Defense.

BILLING CODE 6001-FR-P

BILLING CODE 6001-FR-C

Transmittal No. 24-0Z

REPORT OF ENHANCEMENT OR UPGRADE OF SENSITIVITY OF TECHNOLOGY OR CAPABILITY (SEC. 36(B)(5)(C), AECA)

(i) Purchaser: Government of Singapore

(ii) Sec. 36(b)(1), AECA Transmittal No.: 20-06

Date: January 9, 2020

Implementing Agency: Air Force

Funding Source: National Funds

(iii) Description: On January 9, 2020, Congress was notified by congressional certification transmittal number 20-06 of the possible sale, under Section 36(b)(1) of the Arms Export Control Act, of up to twelve (12) F-35B Short Take-Off and Vertical Landing (STOVL) aircraft (four (4) F-35B STOVL aircraft with the option to purchase an additional eight (8) F-35B STOVL aircraft); and up to thirteen (13) Pratt and Whitney F135 Engines (includes 1 initial spare). Also included were Electronic Warfare Systems; Command, Control, Communication, Computers and Intelligence/Communication, Navigation and Identification (C4I/CNI) system; Autonomic Logistics Global Support System (ALGS); Autonomic Logistics Information System (ALIS); F-35 Training System; Weapons Employment Capability and other Subsystems, Features and Capabilities; F-35 unique infrared flares; reprogramming center access and F-35 Performance Based Logistics; software development/integration; aircraft transport from Ft. Worth, TX to the CONUS initial training base and tanker support (if necessary); spare and repair parts; support equipment, tools and test equipment; technical data and publications; personnel training and training equipment; United States (U.S.) Government and contractor engineering, technical, and logistics support services; and other related elements of logistics support. The total estimated cost was $2.750 billion. Major Defense Equipment (MDE) constituted $1.625 billion of this total.

This transmittal notifies the inclusion of the following MDE items: up to eight (8) F-35A Lightning II aircraft and up to nine (9) Pratt & Whitney F135 Conventional Take Off and Landing (CTOL) engines (eight (8) installed, one (1) spare). The following non-MDE items will also be included: Cartridge Actuated Devices/Propellant Actuated Devices (CAD/PAD); major and minor modifications and equipment; multi-purpose missile equipment; training aids, devices, and spare parts; weapon system support, including unclassified and classified software and software support; aerial refueling support; clothing, textiles, and individual equipment; studies and surveys; and other related elements of logistics and program support. The estimated total value of the new items is $2.01 billion. The estimated MDE value will increase by $.925 billion to $2.55 billion. The estimated non-MDE value will increase by $1.085 billion to a revised $2.21 billion. The estimated total case value will increase by $2.01 billion to a revised $4.76 billion.

(iv) Significance: This notification is being provided as the additional non-MDE items were enumerated in the original notification. The proposed sale will support Singapore's air to air and air to ground self-defense capability, and ability to defend its borders and contribute to coalition operations.

(v) Justification: This proposed sale will support the foreign policy and national security objectives of the U.S. by improving the security of a strategic partner that is an important force for political stability and economic progress in Asia.

(vi) Sensitivity of Technology:

The F-35A Lightning II aircraft is a single seat, single engine, all-weather, stealth, fifth- generation, multirole aircraft. It contains sensitive technology, including the low observable airframe and outer mold line (OML), Pratt and Whitney F135 engine, AN/APG-81 radar, integrated core processor central computer, mission systems and electronic warfare suite, multiple sensor suite, technical data and documentation, and associated software. Sensitive elements of the F-35A are also included in operational flight and maintenance trainers.

The F-35 Training System includes several training devices to provide integrated training for pilots and maintainers. The pilot training devices include a Full Mission Simulator (FMS) and Deployable Mission Rehearsal Trainer (DMRT). The maintenance training devices include an Aircraft Systems Maintenance Trainer (ASMT), Ejection System Maintenance Trainer (ESMT), OML Lab, Flexible Linear Shaped Charge (FLSC) Trainer, F135 Engine Module Trainer, and Weapons Loading Trainer (WLT). The F-35 Training System can be integrated, which allows both pilots and maintainers to learn at the same Integrated Training Center (ITC). Alternatively, pilots and maintainers can train at separate facilities (Pilot Training Center and Maintenance Training Center).

The Sensitivity of Technology Statement contained in the original notification applies to additional items reported here.

The highest level of classification of defense articles, components, and services included in this potential sale is SECRET.

(vii) Date Report Delivered to Congress: November 7, 2024

[FR Doc. 2026-00530 Filed 1-13-26; 8:45 am]

BILLING CODE 6001-FR-P